DEPARTMENT OF HEALTH AND HUMAN SERVICES

42 CFR Part 36

Meetings of the Negotiated Rulemaking Committee on Joint Tribal and Federal Self-Governance

AGENCY: Indian Health Services, HHS.

ACTION: Notice of meetings.

SUMMARY: The Secretary of Health and Human Services has established a Negotiated Rulemaking Committee on Joint Tribal and Federal Self-Governance (Committee) to negotiate and develop a proposed rule implementing the Tribal Self-Governance Amendments of 2000 (the Act). We intend to publish the proposed rule for notice and comment no later than one year after the date of enactment of the Act (August 18, 2000+ one year), as required by section 517(a)(2) of the Act.

DATES: Upcoming meetings of the Committee are as follows:

1. April 17-19, 8:30 a.m.-5 p.m., Washington, DC.

2. May 22-24, 8:30 a.m.-5 p.m., Oklahoma City, OK.

ADDRESSES: The meeting locations are:

1. Washington, DC—Hyatt Regency Washington on Capitol Hill, 400 New Jersey Avenue, NW., Washington, DC 20001, Phone: (202) 737-1234.

2. Oklahoma City, OK—Waterford Marriott, 6300 Waterford Boulevard, Oklahoma City, OK 73118, Phone: 1-800-228-9290.

Written statements may be submitted to Paula Williams, Director, Office of Tribal Self-Governance, Indian Health Service, 5600 Fishers Lane, Room 5A-55, Rockville, MD 20857.

FOR FURTHER INFORMATION CONTACT: Paula Williams, Director, Office of Tribal Self-Governance, Indian Health Service, 5600 Fishers Lane, Room 5A-55, Rockville, MD 20857, Telephone 301-443-7821. (This is not a toll-free number.)

SUPPLEMENTARY INFORMATION: Both meetings are open to the public without advance registration. Public attendance may be limited to the space available. Members of the public may make statements during the meetings to the extent time permits and file written statements with the Committee for its consideration. Submit your written statements to the address listed above. Summaries of the Committee meetings will be available for public inspection and copying ten days following each meeting at the same address.

Dated: March 29, 2001.
Michael H. Trujillo,
Assistant Surgeon General, Director, Indian Health Service.

[FR Doc. 01-8233 Filed 3-30-01; 11:31 am]

BILLING CODE 4160-16-M